DEPARTMENT OF THE INTERIOR

Bureau of Land Management

[AZA 32424]

Notice of Proposed Withdrawal and Opportunity for Public Meeting; Arizona

AGENCY: Bureau of Land Management, Interior.

ACTION: Notice.

SUMMARY: The United States Forest Service proposes to withdraw approximately 780 acres of National Forest System land to protect the Goudy Canyon Research Natural Area on the Coronado National Forest. This notice segregates the land for up to 2 years from location and entry under the United States mining laws. The land will remain open to all other uses which may by law be made of National Forest System land.

DATES: Comments and meeting requests should be received on or before September 18, 2003.

ADDRESSES: Comments and meeting requests should be sent to the Forest Supervisor, Coronado National Forest, 300 W. Congress, Tucson, AZ 85701.

FOR FURTHER INFORMATION CONTACT: Beverley Everson, Coronado National Forest, 300 W. Congress, Tucson, AZ 85701, 520-670-4571.

SUPPLEMENTARY INFORMATION: The Forest Service proposes to withdraw the following described National Forest System land from location and entry under the United States mining laws, subject to valid existing rights:

Coronado National Forest, Gila and Salt River Meridian

T. 8 S., R. 23 E.,

Sec. 25, E½SW¼, E½W½SW¼, SW¼SW¼SW¼, SE¼, SE¼NW¼, E½NE¼, and SW¼NE¼.

Sec. 36, NW¼, W½NE¼, N½N½SW¼, and N½NW¼SE¼.

T. 8 S., R. 24 E.,

Sec. 30, W½SW¼NW¼, and NW¼NW¼SW¼.

The area described contains approximately 780 acres in Graham County.

All persons who wish to submit comments, suggestions, or objections in connection with the proposed withdrawal may present their views in writing, by the date specified above, to the Forest Supervisor of the Coronado National Forest.

Notice is hereby given that an opportunity for a public meeting is afforded in connection with the proposed withdrawal. All interested persons who desire a public meeting for the purpose of being heard on the proposed withdrawal must submit a written request to the Forest Supervisor of the Coronado National Forest, within 90 days from the date of publication of this notice. Upon determination by the authorized officer that a public meeting will be held, a notice of the time and place will be published in the Federal Register and a newspaper having a general circulation in the vicinity of the land at least 30 days before the scheduled date of the meeting.

The withdrawal application will be processed in accordance with the regulations set forth in 43 CFR part 2300.

For a period of 2 years from June 20, 2003, in accordance with 43 CFR 2310.2(a), the land will be segregated from location and entry under the United States mining laws, unless the withdrawal application is denied or canceled or the withdrawal is approved prior to that date.

Dated: May 13, 2003.
Carol A. Kershaw,
Acting Deputy State Director, Resources Division.

[FR Doc. 03-15603 Filed 6-19-03; 8:45 am]

BILLING CODE 3410-11-P